SELECTIVE SERVICE SYSTEM

Reasonable Accommodation, Religious Exception, and Medical Exception Health Records

AGENCY: Selective Service System.

ACTION: Notice of new system of records.

SUMMARY: Pursuant to the provisions of the Privacy Act of 1974, as amended, the Selective Service System (SSS) is issuing a public notice of its intent to create a Privacy Act System of Records titled, “Reasonable Accommodation, Religious Exception, and Medical Exception Health Records.” This System of Records notice (SORN) describes Selective Service's collection, maintenance, and use of records related to requests for reasonable accommodation under Title VII of the Civil Rights Act of 1964 or the applicable provisions of the Americans with Disabilities Act as applied to the Federal Government through the Rehabilitation Act and the Religious Freedom Restoration Act of 1993. This newly established system will be included in the SSS inventory of record systems.

DATES: Please submit comments on or before 30 days after date of publication in the Federal Register. This new system is effective upon publication in today's Federal Register, with the exception of the routine uses, which are effective 30 days after date of publication in the Federal Register.

ADDRESSES: Written comments and recommendations should be sent to Daniel.Mira@sss.gov or to the Selective Service System, Mr. Daniel Mira, Senior Agency Official for Privacy, 1515 Wilson Boulevard, Arlington, Virginia 22209-2425. A copy of the comments should be sent to the Office of Information and Regulatory Affairs, Attention: Desk Officer, Selective Service System, Office of Management and Budget, New Executive Office Building, Room 3235, Washington, DC 20503.

FOR FURTHER INFORMATION CONTACT: Mr. Daniel Mira, Senior Agency Official for Privacy, Office of Information Technology, Selective Service System, 1515 Wilson Boulevard, Arlington, Virginia 22209-2425.

SUPPLEMENTARY INFORMATION: Executive Order 14043, Requiring Coronavirus Disease 2019 Vaccination for Federal Employees, signed September 9, 2021, establishes mandatory requirements for Federal executive agencies to implement a program to require COVID-19 vaccinations for Federal employees, with some exceptions as required by law. Additionally, Executive Order 14042, Ensuring Adequate COVID Safety Protocols for Federal Contractors, signed September 9, 2021, establishes requirements for Federal executive agencies to implement workplace safety protocols for contractors and subcontractors to protect the health and safety of the Federal workforce and members of the public. SSS is implementing these requirements to ensure the safety of its workforce and visitors to its facilities and sponsored events.

A report on this new system has been sent to OMB, the Chairman, Committee on Government Reform and Oversight, U.S. House of Representatives; and Chairman, Committee on Homeland Security and Governmental Affairs, United States Senate as required by the Privacy Act.

If changes are made based on the SSS review of comments received, the SSS will publish a subsequent notice.

This system of records is maintained by the SSS and contains personal information about individuals from which information is retrieved by an individual's name or identifier.

The notice for this System of Records states the name and location of the record system, the authority for and manner of its operation, the categories of individuals that it covers, the types of records that it contains, the sources of information in those records, and the routine uses. This notice also includes the business address of the SSS official who will inform interested persons of the procedures whereby they may gain access to and request amendment of records pertaining to them.

The Privacy Act provides certain safeguards for an individual against an invasion of personal privacy by requiring Federal agencies to protect records contained in an agency System of Records from unauthorized disclosure and to ensure that information is current and accurate for its intended use and that adequate safeguards are provided to prevent misuse of such information.

SYSTEM NAME:

Reasonable Accommodation, Religious Exception, and Medical Exception Health Records.

SECURITY CLASSIFICATION:

Unclassified.

SYSTEM LOCATION:

Selective Service System, 1515 Wilson Boulevard, Arlington, Virginia 22209-2425.

SYSTEM MANAGER(S):

Mr. Daniel Mira, Senior Agency Official for Privacy, 1515 Wilson Boulevard, Arlington, Virginia 22209-2425.

AUTHORITY FOR MAINTENANCE OF THE SYSTEM:

The collection and maintenance of accommodation records is authorized by the Rehabilitation Act, 29 U.S.C. 791, and Title VII of the Civil Rights Act, 42 U.S.C. 2000e, as well as Executive Order 13164 and 29 CFR 1605 and 1614.

PURPOSE(S) OF THE SYSTEM:

This system is to maintain records necessary and relevant to SSS activities responding to and mitigating high-consequence public health threats, including, but not limited to: COVID-19 or diseases and illnesses relating to a public health emergency, pandemic, or other high-consequence public health threat. The President's September 9, 2021, Executive Order 14043, requires all Federal workers to be vaccinated, except in limited circumstances as required by law. Accordingly, this System of Records is designed to collect records related to vaccination status, including records related to the processing of requests from employees, applicants for employment who are seeking a reasonable accommodation based upon disability under the Rehabilitation Act or for a religious belief, observance, or practice under Title VII of the Civil Rights Act of 1964 for the vaccination requirement contained in Executive Order 14043, or the Religious Freedom Restoration Act of 1993, 42 U.S.C. chapter 21B; or other applicable law.

CATEGORIES OF INDIVIDUALS COVERED BY THE SYSTEM:

This system includes individuals who request reasonable accommodations exemptions for the COVID-19 vaccine requirement and agency officials processing or making reasonable accommodation assessments and decisions. These records also include information on authorized individuals, such as a family member, health professional, or other representatives submitting the request on behalf of an individual.

CATEGORIES OF RECORDS IN THE SYSTEM:

Records related to reasonable accommodation exceptions, medical or religious, from the COVID-19 vaccine requirement. These records may include but are not limited to:

1. Name;

2. Individual requester's status as an applicant, current or former employee, or other status;

3. Individual requester's occupational series and grade level for which reasonable accommodation had been requested;

4. Contact information such as work or personal address, phone number, and email address;

5. Date a request was submitted verbally or in writing;

6. Documented requests for different type(s) of reasonable accommodation requested;

7. How the requested accommodation would assist in job performance;

8. Supervisor's name, address, and contact information;

9. Name and contact information of a family member, health professional, or other representative submitting a request on behalf of an individual;

10. Medical documentation about a disability or medical condition, or other appropriate supporting information submitted or required to process the request;

11. Records on religious beliefs, observances or practices including descriptions of employee's belief, observance or practice, medicines or medical products that are used or not used by an employee due to a belief, observance or practice;

12. Name, title, and contact information of SSS officials processing, deciding or referring a request for reasonable accommodation;

13. Agency decisions including whether a request was granted or denied, reasons for a denial, date a request was approved or denied, date a reasonable accommodation was provided to the individual;

14. The amount of time taken to process a request, including whether the recommended time frames were met as outlined in the reasonable accommodation procedures;

15. Any other information that is submitted by individuals in support of requests for reasonable accommodation, or that is necessary and relevant to support agency assessment and decision regarding the request.

RECORD SOURCE CATEGORIES:

Records may be obtained from SSS personnel who may provide relevant information on information related to a request for an exception from the COVID-19 vaccination requirement. Information may also be sourced from personnel at medical facilities, or from existing systems of records, including but not limited to OPM/GOVT-10, “Employee Medical File System Records,” (75 FR 35099; June 21, 2010), and modified on November 30, 2015 (80 FR 74815).

ROUTINE USES OF RECORDS MAINTAINED IN THE SYSTEM, INCLUDING CATEGORIES OF USERS AND THE PURPOSES OF SUCH USES:

In addition to the disclosures permitted under subsection (b) of the Privacy Act, the SSS may disclose information contained in this System of Records without the consent of the persons mentioned herein if the disclosure is compatible with the purpose for which the record was collected under the following routine uses:

1. To appropriate medical facilities, or Federal, State, local, Tribal, territorial or foreign government agencies, to the extent permitted by law, for the purpose of protecting the vital interests of individual(s), including to assist the United States Government in responding to or mitigating high-consequence public health threats, or diseases and illnesses relating to a public health emergency.

2. To determine eligibility for access to SSS offices or sites, or other Federal facilities.

3. Where a record, either alone or in conjunction with other information, indicates a violation or potential violation of law—criminal, civil, or regulatory in nature—the relevant records may be referred to the appropriate Federal, State, local, territorial, Tribal, or foreign law enforcement authority or other appropriate entity charged with the responsibility for investigating or prosecuting such violation or charged with enforcing or implementing such law.

4. In an appropriate proceeding before a court, grand jury, or administrative or adjudicative body, when the SSS determines that the records are arguably relevant to its proceeding; or in an appropriate proceeding before an administrative or adjudicative body when the adjudicator determines the records to be relevant to the proceeding.

5. To contractors and others performing or working on a contract, service, grant, cooperative agreement, or other assignment for the Federal Government, when necessary to accomplish an SSS function related to this System of Records.

6. A record on an employee or contractor from this System of Records may be disclosed as a routine use to a Federal, State, local, territorial, Tribal, or foreign agency requesting a record that is relevant and necessary to its decision on a matter of hiring or retaining an employee, issuing a security clearance, reporting an investigation of that individual, letting a contract, or issuing a license, grant, or other benefit.

7. A record on an employee or contractor from this System of Records may be disclosed as a routine use to a Congressional office in response to an inquiry from the Congressional office made at the request of that individual.

8. To the National Archives and Records Administration for purposes of records management inspections conducted under the authority of 44 U.S.C. 2904 and 2906.

9. To appropriate agencies, entities, and persons when (1) the SSS suspects or has confirmed that there has been a breach of the System of Records. (2) the SSS has determined that as a result of the suspected or confirmed breach there is a risk of harm to an individual(s), the SSS (including its information systems, programs, and operations), the Federal Government, or national security; and (3) the disclosure made to such agencies, entities, and persons is reasonably necessary to assist in connection with the SSS efforts to respond to the suspected or confirmed breach or to prevent, minimize, or remedy such harm.

10. To another Federal agency or Federal entity, when the SSS determines that information from this System of Records is necessary to assist the recipient agency or entity in (1) responding to a suspected or confirmed breach, or (2) preventing, minimizing, or remedying the risk of harm to individuals, the recipient agency or entity (including its information systems, programs, and operations), the Federal Government, or national security, resulting from a suspected or confirmed breach.

11. To any agency, organization, or individual for the purpose of performing authorized audit or oversight operations of the SSS and meeting related reporting requirements.

12. To such recipients and under such circumstances and procedures as are mandated by Federal statute or treaty.

13. A record from this System of Records may be disclosed as a routine use to SSS paid experts or consultants, and those under contract with the SSS on a “need-to-know” basis for purpose within the scope of the pertinent SSS task. This access will be granted to a SSS contractor or employee of such contractor by a system manager only after satisfactory justification has been provided to the system manager.

POLICIES AND PRACTICES FOR STORAGE OF RECORDS:

All records in this System of Records are maintained and in compliance with applicable executive orders, statutes, and agency implementing recommendations. Electronic records are stored in databases and/or on hard disks, removable storage devices, or other electronic media. Paper records are maintained in a secure, access controlled room, with access limited to authorized personnel. To the extent applicable, to ensure compliance with Americans with Disabilities Act, the Rehabilitation Act, and the Genetic Information Nondiscrimination Act of 2008, medical information must be maintained on separate forms and in separate medical files and be treated as a confidential medical record.

SSS has ITSP-64 for Media Protection which establishes a uniform process for protecting and storing PII and media.

POLICIES AND PRACTICES FOR RETRIEVAL OF RECORDS:

Records will be retrieved by any of the categories of records, including name, location, date of vaccine exception request, or work status.

POLICIES AND PRACTICES FOR RETENTION AND DISPOSAL OF RECORDS:

Records in this system are temporary and are maintained and destroyed in accordance with National Archives and Records Administration General Records Schedule 2.7 Employee Health and Safety Records.

ADMINISTRATIVE, TECHNICAL, AND PHYSICAL SAFEGUARDS:

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, multi-factor authentication, database permissions, encryption, firewalls, audit logs, network system security monitoring, and software controls.

SSS has ITSP-11 for Access Control This policy applies to all SSS information users, owners, contractors and custodians, as well as access to any SSS information resources. Access to records in the system is limited to authorized personnel who have a need to access the records in the performance of their official duties, and each user's access is restricted to only the functions and data necessary to perform that person's job responsibilities. System administrators and authorized users are trained and required to follow established internal security protocols and must complete all security, privacy, and records management training and sign the SSS Rules of Behavior.

RECORDS ACCESS PROCEDURES:

Same as “Notification procedures.”

CONTESTING RECORDS PROCEDURES:

Same as “Notification procedures.”

NOTIFICATION PROCEDURES:

Individuals seeking to determine whether this System of Records contains information about them should write to Mr. Daniel Mira, Senior Agency Official for Privacy and comply with procedures contained in the SSS Privacy Act Regulation 32 CFR part 1665.

EXEMPTIONS PROMULGATED FOR THE SYSTEM:

None.

HISTORY:

None.

Daniel Mira,
Deputy Chief Information Officer, Senior Agency Official for Privacy.

[FR Doc. 2022-00621 Filed 1-12-22; 8:45 am]

BILLING CODE P